FEDERAL COMMUNICATIONS COMMISSION

[CC Docket No. 98-67; DA 02-756]

Consumer and Governmental Affairs Bureau Announces Agenda for the May 3, 2002, Rescheduled Public Forum and Technology Expo on Telecommunications Relay Service; Ex Parte Comments Invited

AGENCY: Federal Communications Commission.

ACTION: Notice; announcement of meeting.

SUMMARY: The Consumer and Governmental Affairs Bureau (CGB) of the Federal Communications Commission invites interested persons to a Public Forum and Technology Expo on Telecommunications Relay Service (TRS). The purpose of this Forum and Expo is for TRS administrators, consumers, providers, and Commission staff to share information on, among other things, current State TRS, renewal of State TRS certifications and new TRS technologies.

DATES: The Public Forum and Technology Expo on TRS will be held on Friday, May 3, 2002, from 10 a.m. to 3 p.m. in the Commission Meeting Room, (Room TW-C305) and adjacent rooms, at 445 12th St., SW., Washington, DC 20554. Ex parte comments are due by May 10, 2002.

ADDRESSES: Federal Communications Commission, 445 12th Street, SW., Washington, DC 20554.

FOR FURTHER INFORMATION CONTACT: For more information about the TRS Forum or Technology Expo, including how to exhibit at the Expo, please contact Suzanne Perrin at (202) 418-2874 (voice), (202) 418-1085 (TTY), or sperrin@fcc.gov.

SUPPLEMENTARY INFORMATION: The Forum will offer an opportunity for everyone, including consumers and industry representatives, to exchange ideas with the Commission and TRS administrators and to have their comments become part of the formal public record in CC Docket 98-67. In conjunction with the Forum, the CGB will hold a Technology Expo to showcase TRS and other accessibility technologies.

The Forum agenda is tentatively as follows:

9:30 a.m.-3:30 p.m. Technology Expo

10:00 a.m.-10:30 a.m. Opening Remarks

10:30 a.m.-11:15 a.m. Status of TRS and Current Issues

11:15 a.m.-12 a.m. Renewal of State TRS Certifications

12 p.m.-1 p.m. Expo Demonstrations (Lunch Break)

1 p.m.-2:30 p.m. Panel on TRS Technologies for the 21st Century

2:30 p.m.-3 p.m. Open Microphone

3 p.m.-3:30 p.m. Expo Demonstrations

Pursuant to §§ 1.415 and 1.419 of the Commission's rules, 47 CFR 1.415, 1.419, interested parties may file Ex parte comments on or before May 10, 2002. Ex parte comments may be filed using the Commission's Electronic Comment Filing System (ECFS) or by filing paper copies. See Electronic Filing of Documents in Rulemaking Proceedings, 63 FR 24121, May 1, 1998. Ex parte comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Those unable to attend the Forum can watch and listen to it live over the Internet with open captioning in Real Audio/Real Video format at: <http://www.fcc.gov/realaudio/>. Individuals can send their views and/or questions before or during the Forum to: TRSFORUM@fcc.gov (e-mail). The ­e-mails should have the heading, “Ex Parte Submission in CC Docket 98-67.” These views will be included in the record of the TRS proceeding. A transcript of the forum will be available 10 business days after the event on the FCC's Internet site at the Consumer and Governmental Affairs Bureau web page at <http://www.fcc.gov/cgb>. Transcripts may also be obtained from the FCC's duplicating contractor, Qualex International, 445 12th St., SW., Room CY-B402, Washington, DC 20554, telephone 202-863-2893, facsimile 202-863-2898, or via e-mail qualexint@aol.com. Audio and video tapes of the forum may be purchased from Infocus, 341 Victory Drive, Herndon, VA 20170, by calling Infocus at (703) 834-0100 or by faxing Infocus at (703) 834-0111. Sign language interpretation, open captioning and assistive listening devices will be provided. Meeting agenda and handout materials will be provided in accessible formats. The meeting site is fully accessible to people using wheelchairs or other mobility aids. Copies of the transcript in other alternative formats (computer diskette, large print, and Braille) are available to persons with disabilities by contacting Brian Millin (202) 418-7426 voice, (202) 418-7365 TTY, or bmillin@fcc.gov.

Send requests for other reasonable accommodations to fcc504@fcc.gov, or contact Helen Chang, Section 504 Officer, 202-418-0424, 202-418-0432 TTY, or hchang@fcc.gov.

Federal Communications Commission.
Martha Contee,
Chief, Consumer Affairs and Outreach Division.

[FR Doc. 02-9640 Filed 4-18-02; 8:45 am]

BILLING CODE 6712-01-P